DEPARTMENT OF DEFENSE

Office of the Secretary

Defense Advisory Committee on Military Personnel Testing; Notice of Federal Advisory Committee Meeting

AGENCY: Under Secretary of Defense for Personnel and Readiness, Department of Defense (DoD).

ACTION: Notice of Federal advisory committee meeting.

SUMMARY: The DoD is publishing this notice to announce that the following meeting of the Defense Advisory Committee on Military Personnel Testing (DACMPT) will take place.

DATES: Day 1—Open to the public Wednesday, June 12, 2024 from 8:30 a.m. to 5:30 p.m., Pacific Time. Day 2—Open to the public Thursday, June 13, 2024, from 8:30 a.m. to 1:15 p.m., Pacific Time.

ADDRESSES: Venue to-be-determined (TBD). Meeting details will be posted on: https://dacmpt.com.

FOR FURTHER INFORMATION CONTACT: Designated Federal Officer (DFO), Dr. Sofiya Velgach, (703) 697-9271 (Voice), 703 614-9272 (Facsimile), osd.pentagon.ousd-p-r.mbx.dacmpt@mail.mil (Email). Mailing address is Designated Federal Officer, Accession Policy, Office of the Under Secretary of Defense for Personnel and Readiness, Room 3D1066, The Pentagon, Washington, DC 20301-4000. The most up-to-date changes to the meeting can be found on the website: https://dacmpt.com.

SUPPLEMENTARY INFORMATION: This meeting is being held under the provisions of chapter 10 of title 5, United States Code (U.S.C.) (commonly known as the “Federal Advisory Committee Act” or “FACA”); 5 U.S.C. 552b (commonly known as the “Government in the Sunshine Act”); and 41 Code of Federal Regulations (CFR) 102-3.140 and 102-3.150.

Purpose of the Meeting: The purpose of the meeting is to provide an overview of the accession testing program, review progress on the test development efforts, provide an update on the calculator study, and gather advice on current testing capabilities. Additional information can be found at https://dacmpt.com.

Agenda

Day 1, Wednesday, June 12, 2024 (Pacific Time)

8:30 a.m.-8:45 a.m.: Welcome and Opening Remarks—Dr. Sofiya Velgach, OASD(M&RA)/AP

8:45 a.m.-9:15 a.m.: Accession Policy Brief—Dr. Katherine Helland, OASD(M&RA)/AP

9:15 a.m.-10:00 a.m.: R&D Milestones Brief—Dr. Mary Pommerich, OPA/DTAC

10:00 a.m.-10:15 a.m.: Break

10:15 a.m.-11:15 a.m.: Next Generation Testing—Dr. Kimberly Adams, HumRRO

a. Test Overviews

b. How Pieces Fit Together

c. Roadmap Efforts

11:15 a.m.-12:15 p.m.: Form Development Methodology—Dr. Glen Heinrich-Wallace, Dr. Ted Diaz (HumRRO)

a. Calibration Sample Size Study

b. Use of Machine Learning and Natural Language Processing Method

12:15 p.m.-1:45 p.m.: Lunch

1:45 p.m.-2:45 p.m.: Form Equating Simulation Study—Dr. Jeff Dahlke (HumRRO)

2:45 p.m.-3:45 p.m.: Calculator Analyses Efforts—Dr. Andrea Sinclair, HumRRO

3:45 p.m.-4:00 p.m.: Break

4:00 p.m.-4:30 p.m.: Complex Reasoning Update—Dr. Kate Klein (HumRRO)

4:30 p.m.-5:00 p.m.: Computational Thinking Update—Dr. Kimberly Adams, Dr. Scott Oppler (HumRRO)

5:00 p.m.-5:15 p.m.: Public Comments

Day 2, Thursday, June 13, 2024 (Pacific Time)

8:30 a.m.-9:30 a.m.: Non-Cognitive Updates

a. Joint—Service TAPAS Background—Dr. Dan Putka, Dr. Tim McGonigle, HumRRO

i. Identification of Phase 0 Composites

ii. Development of Phase 1 Composites

iii. JS TAPAS Instrument Planning and Composite Refinement

b. Best Practices Project Team—MC Dr. Brenda Ellis, HumRRO

9:30 a.m.-10:30 a.m.: Norming Efforts—Dr. Rod McCloy (HumRRO)

10:30 a.m.-10:45 a.m.: Break

10:45 a.m.-11:30 a.m.: ASVAB CEP Dr. Irina Rader, Ms. Temeka Franklin, OPA/DTAC

11:30 a.m.-11:45 a.m.: Legislation/Policy Review Dr. Sofiya Velgach, OASD(M&RA)/AP

11:45 a.m.-12:00 p.m.: Resource Overview—Dr. Mary Pommerich, OPA/DTAC

a. Systems

b. Staffing

c. Funding

12:00 p.m.-12:30 p.m.: Prioritization of Recommendations—Dr. Sofiya Velgach, OASD(M&RA)/AP

12:30 p.m.-12:45 p.m.: Future Topics Dr. Mary Pommerich, OPA/DTAC

12:45 p.m.-1:00 p.m.: Public Comments

1:00 p.m.-1:15 p.m.: Closing Comments—Dr. Nancy Tippins, Chair

1:15 p.m.-3:00 p.m.: Working Lunch (Administrative Items)

Abbreviations Key

ASVAB—Armed Services Vocational Aptitude Battery

ASVAB CEP—ASVAB Career Exploration Program, student testing program provided at no cost to high schools nation-wide to help students develop career exploration skills and used by recruiters to identify potential applicants for enlistment

HumRRO—Human Resources Research Organization

JS—Joint Service

MC—Military Compatibility

OASD(M&RA)/AP—Office of the Assistant Secretary of Defense for Manpower and Reserve

Affairs/Accession Policy

OPA/DTAC—Office of People Analytics/Defense Testing and Assessment Center

TAPAS—Tailored Adaptive Personality Assessment System

Latest version of the agenda will be posted on https://dacmpt.com.

Meeting Accessibility: Pursuant to 5 U.S.C. 1009(a)(1) and 41 CFR 102-3.140 through 102-3.165, and subject to the availability of space, this meeting is open to the public. Seating availability is based on first-come, first-served basis. All members of the public who wish to attend the public meeting must contact the DFO no later than 12:00 p.m. on Monday, June 3, 2024, as listed in the FOR FURTHER INFORMATION CONTACT section.

Written Statements: Pursuant to 41 CFR 102-3.105(j) and 102-3.140 and 5 U.S.C. 1009(a)(3), interested persons may submit written statements to the DACMPT at any time about its approved agenda or at any time on the DACMPT's mission. Written statements should be submitted to the DACMPT's DFO at the address or facsimile number listed in the FOR FURTHER INFORMATION CONTACT section. If statements pertain to a specific topic being discussed at the planned meeting, then these statements must be submitted no later than five (5) business days prior to the meeting in question. Written statements received after this date may not be provided to, or not considered by the DACMPT until its next meeting. The DFO will review all timely submitted written statements and provide copies to all the DACMPT members before the meeting that is the subject of this notice. Please note that since the DACMPT operates under the provisions of the FACA, all submitted comments and public presentations will be treated as public documents and will be made available for public inspection. Opportunity for public comments will be provided at the end of each day. Public comments will be limited to 5 minutes per person, as time allows.

Dated: April 29, 2024.
Aaron T. Siegel,
Alternate OSD Federal Register Liaison Officer, Department of Defense.

[FR Doc. 2024-09574 Filed 5-1-24; 8:45 am]

BILLING CODE 6001-FR-P